DEPARTMENT OF THE INTERIOR

Bureau of Land Management

[LLCON06000-L16100000-DP0000]

Notice of Dominguez-Escalante National Conservation Area Advisory Council Meeting Cancellation and Reschedule

AGENCY: Bureau of Land Management, Interior.

ACTION: Notice of Public Meeting Cancellation and Reschedule

SUMMARY: In accordance with the Federal Land Policy and Management Act (FLPMA) and the Federal Advisory Committee Act of 1972 (FACA), notice is hereby given that the Dominguez-Escalante National Conservation Area Advisory Council meeting scheduled for May 29, 2013, at the Bill Heddles Recreation Center, 530 Gunnison River Drive, Delta, CO, has been cancelled and rescheduled to take place on June 26, 2013, at the Bill Heddles Recreation Center, 530 Gunnison River Drive, Delta, CO. Notice of the original meeting appeared in the Federal Register on April 11, 2013.

DATES: The cancelled meeting was scheduled for May 29, 2013, from 3 p.m. to 6 p.m. The rescheduled meeting will take place on June 26, 2013, from 3 p.m. to 6 p.m.

FOR FURTHER INFORMATION CONTACT: Shannon Borders, Southwest District Public Affairs Specialist, BLM Southwest District Office, 2465 South Townsend Ave., Montrose, CO 81401. Phone: (970) 240-5399. Email: sborders@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 10-member council advises the Secretary of the Interior, through the BLM, on a variety of planning and management issues associated with the resource management planning process for the Dominguez-Escalante National Conservation Area and Dominguez Canyon Wilderness. Future meetings will be announced through a separate Federal Register notice. For more information about the Dominguez-Escalante National Conservation Area Advisory Council, visit http://www.blm.gov/co/st/en/nca/denca/denca_rmp/DENCA_Resource_Advisory_Council.html.

Dated: May 7, 2013.
Helen M. Hankins,
BLM Colorado State Director.

[FR Doc. 2013-11370 Filed 5-14-13; 8:45 am]

BILLING CODE 4310-JB-P